DEPARTMENT OF HOMELAND SECURITY

Coast Guard

[Docket No. USCG-2008-0333]

Delaware River and Bay Oil Spill Advisory Committee; Meeting

AGENCY: Coast Guard, DHS.

ACTION: Notice of inaugural meeting and announcement of membership.

SUMMARY: The Delaware River and Bay Oil Spill Advisory Committee (DRBOSAC) will hold its inaugural meeting in Philadelphia, PA to discuss various issues to improve oil spill prevention and response strategies for the Delaware River and Bay. During the inaugural meeting, the items concerning the Committee's organization and administration will be discussed. This meeting will be open to the public.

DATES: The Committee will meet on Wednesday, December 17, 2008, from 9 a.m. to 4 p.m. This meeting may close early if all business is finished. Written material should reach the Coast Guard on or before December 11, 2008.

ADDRESSES: The Committee will meet at Coast Guard Sector Delaware Bay, 1 Washington Ave., Philadelphia, PA 19147. Send written material to Gerald Conrad, liaison to the Designated Federal Officer (DFO) of the DRBOSAC, at the address above. This notice and any documents identified in the SUPPLEMENTARY INFORMATION section as being available in the docket may be viewed online, at http://www.regulations.gov, using docket number USCG-2008-0333.

FOR FURTHER INFORMATION CONTACT: Gerald Conrad, liaison to the DFO of the DRBOSAC, telephone 215-271-4824.

SUPPLEMENTARY INFORMATION: Notice of this meeting is given under the Federal Advisory Committee Act, 5 U.S.C. App. (Pub. L. 92-463).

Agenda of the Meeting

The agenda for the inaugural meeting will be as follows:

(1) Opening comments.

(2) Introduction and swearing in of the new members.

(3) Election of the Chair and Vice-Chair.

(4) Indoctrination into Federal Advisory Committee Procedures.

(5) Membership Administration issues.

(6) Establishment and purpose of sub-committees (if applicable).

(7) Indoctrination into technical terminology, and basic oil spill response and removal procedures.

(8) Future Committee business.

(9) Closing.

Procedural

This meeting will be open to the public. All persons entering the building will have to present identification and may be subject to screening. Please note that the meeting may close early if all business is finished.

The public will not be able to make oral presentations during the meeting. The public may file written statements with the committee; written material should reach the Coast Guard no later than December 11, 2008. If you would like a copy of your material distributed to each member of the committee in advance of the meeting, please submit 35 copies to the liaison to the DFO no later than December 11, 2008.

Information on Services for Individuals With Disabilities

For information on facilities, or services for individuals with disabilities, or to request special assistance at the meeting, contact the Liaison to the DFO as soon as possible.

Dated: November 7, 2008.
David L. Scott,
Captain, U.S. Coast Guard, Commander, Sector Delaware Bay Designated Federal Officer.

[FR Doc. E8-27847 Filed 11-21-08; 8:45 am]

BILLING CODE 4910-15-P